DEPARTMENT OF THE INTERIOR

Fish and Wildlife Service

Notice of Receipt of Applications for Permit

Endangered Species

The public is invited to comment on the following application(s) for a permit to conduct certain activities with endangered species. This notice is provided pursuant to Section 10(c) of the Endangered Species Act of 1973, as amended (16 U.S.C. 1531, et seq.). Written data, comments, or requests for copies of these complete applications should be submitted to the Director (address below) and must be received within 30 days of the date of this notice.

Applicant: Field Museum of Natural History, Chicago, IL, PRT-052418.

The applicant requests a permit to import biological samples from Diademed sifaka (Propithecus diadema), Brown lemur (Eulemur fulvus), and Red-bellied lemur (Eulemur rubriventer) collected in the wild in Madagascar, for scientific research.

Applicant: Mesa Garden, Belen, NM, PRT-678845.

The applicant requests the addition of star cactus, Astrophytum (=Echinocactus) asterias to their interstate and foreign commerce permit, and the renewal of their permit for the following cactus species: Tobusch fishhook, Anicistocactus tobuschi (syn. Sclerocactus brevihamatus); Nellie's cory, Coryphantha (=Escobaria) minima; bunched cory, Coryphantha ramillosa; Cochise pincushion, Corypanthia(=Coshiseia =Escobaria) robbinsorum; Lee pincushion, Corypantha (=Escobaria =Mammillaria) sneedii var. leei; Sneed pincushion Corypantha (=Escobaria=Mammilaria) sneedii var. sneedii; Chisos Mountain hedgehog, Echinocereus chinoensis (=reichenbachii) var. chisoensis; Kuenzler hedgehog, Echinocereus fendleri var. kuenzleri; Lloyd's hedgehog, Echinocereus lloydii (= E. roetteri var. l.); black lace, Echinocereus reichenbachii var. albertii; Arizona hedgehog, Echinocereus triglochidiatus var. arizonicus; Davis green pitaya, Echinocereus viridiflorus var. davisii; Lloyd's mariposa, Neolloydia mariposensis; Brady's pincushion, Pediocactus bradyi; San Rafael, Pediocactus dispainii; Knowlton's, Pediocactus knowltonii; Peebles Navajo, Pediocactus peeblesianus var. peeblesianus; Siler pincushion, Pediocactus sileri; Uinta Basin hookless, Sclerocactus glaucus; Mesa Verde, Sclerocactus mesae-verdae; and Wright's fishhook, Sclerocactus wrightiae for the purpose of enhancement of the species through captive propagation. This notification covers activities conducted by the applicant for a period of five years.

The U.S. Fish and Wildlife Service has information collection approval from OMB through March 31, 2004, OMB Control Number 1018-0093. Federal Agencies may not conduct or sponsor and a person is not required to respond to a collection of information unless it displays a current valid OMB control number.

Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203, telephone 703/358-2104 or fax 703/358-2281.

Dated: February 1, 2002.
Michael S. Moore,
Senior Permit Biologist, Branch of Permits, Division of Management Authority.

[FR Doc. 02-3706 Filed 2-14-02; 8:45 am]

BILLING CODE 4310-55-P